DEPARTMENT OF TRANSPORTATION

Federal Railroad Administration

Petition for Extension of Waiver of Compliance

In accordance with Title 49 Code of Federal Regulations (CFR), §§ 211.9 and 211.41 notice is hereby given that the Federal Railroad Administration (FRA) has received a request for extension of a waiver of compliance from certain requirements of Federal railroad safety regulations. The individual petition is described below, including the parties seeking relief, the regulatory provisions involved, the nature of the relief being requested and the petitioner's arguments in favor of relief.

National Railroad Passenger Corporation

Union Pacific Railroad

[Docket Number FRA-2002-12836]

The Union Pacific Railroad (UP) and the National Railroad Passenger Corporation (Amtrak) seek to extend a waiver of compliance from certain sections of 49 CFR parts 216, Special Notice and Emergency Order Procedures: Railroad Track, Locomotive and Equipment; 217, Railroad Operating Rules; 218, Railroad Operating Practices; 229, Railroad Locomotive Safety Standards; 233, Signal Systems Reporting Requirements; 235, Instructions Governing Applications for Approval of a Discontinuance or Material Modification of a Signal System or Relief from the Requirements of part 236; 236, Rules, Standards, and Instructions Governing the Installation, Inspection, Maintenance, and Repair of Signal and Train Control Systems, Devices, and Appliances; and 240, Qualification and Certification of Locomotive Engineers, under section 211.51, Tests, to allow them to develop, implement and test technology designed to prevent train collisions, overspeed violations, and protect roadway workers.

On October 16, 2002, the Federal Railroad Administration (FRA) conditionally approved the joint Union Pacific Railroad (UP) and National Railroad Passenger Corporation (Amtrak) Petition for Waiver of Compliance FRA-2002-12836.

The waiver is for a program that will enable the industry to demonstrate and validate the technology, referred to as Positive Train Control, (PTC) before it is implemented in a larger scale.

The PTC program will be tested and demonstrated on approximately 118.4 miles of UP track in the State of Illinois with the following conditions:

1. The submittal of, and adherence to, a test plan for each segment being tested that has been reviewed and will be monitored by the FRA. The test plan is subject to approval by the FRA test monitor with respect to the safety of railroad employees and members of the public. The test monitor will provide advice with respect to tests that may bear favorably on FRA's review of the train control system.

2. The railroad must place appropriately equipped flaggers in each lane of traffic at all public and private highway-rail grade crossings, or close any private crossing when an appropriately equipped flagger cannot be provided, along the demonstration route whenever a run of 80 mph or above is being conducted.

3. Operate under absolute block conditions for each run of 80 mph or higher or under any conditions where wayside signal indications will not be observed.

4. Inspect high-speed demonstration corridor with FRA's automated track geometry vehicle to ensure track compliance with FRA's Track Safety Standards. (Initial inspection was completed.)

5. Waiver is granted until August 31, 2004, unless the UP notifies the FRA of an earlier termination date.

These tests must be made in a safe and reliable manner, and to that end FRA would expect UP and Amtrak to support each other and to provide for the continuity of operating employees involved in these tests.

These conditions were transmitted to Amtrak and the UP Railroad in a letter from Mr. Grady Cothen to Mr. Dennis Duffy on October 22, 2002. A specific listing of the details of the approval concerning applicable 49 CFR parts appears in the Federal Register, Vol. 67, No. 146, Tuesday, July 30, 2002, pages 49382 through 49386.

Test trains have been operated at speeds over 110 mph in this territory in full compliance with the waiver herein described. Much was accomplished in these tests. Much data has been collected, and the System Integrator of this system is currently deeply involved in the integration of the system.

An exhaustive investigation of all possible failure modes of the system is being conducted in order to be able to certify the fail-safety of the system. This process has turned out to require a significantly longer time frame than originally anticipated. In view of this, the railroad is now requesting an extension of Condition Number 5 so that a request is made that Condition Number 5 “ Waiver is granted until August 31, 2004 unless the UP notifies the FRA of an earlier termination date” be changed to read “Waiver is granted until December 31, 2005.”

Interested parties are invited to participate in these proceedings by submitting written views, data or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12836) and must be submitted to the Docket Clerk, DOT Central Docket Management Facility, Room PL-401, Washington, DC 20590-0001. Communications received within 30 days from the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on March 30, 2004.
John Leeds,
Director for Safety Analysis.

[FR Doc. 04-7621 Filed 4-2-04; 8:45 am]

BILLING CODE 4910-06-P